DEPARTMENT OF THE INTERIOR

National Park Service

[NPS-WASO-NAGPRA-23165; PPWOCRADN0-PCU00RP14.R50000]

Notice of Inventory Completion: University of Pennsylvania Museum of Archaeology and Anthropology, Philadelphia, PA

AGENCY: National Park Service, Interior.

ACTION: Notice.

SUMMARY: The University of Pennsylvania Museum of Archaeology and Anthropology (the Museum) has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the University of Pennsylvania Museum of Archaeology and Anthropology. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the University of Pennsylvania Museum of Archaeology and Anthropology at the address in this notice by June 2, 2017.

ADDRESSES: Dr. Julian Siggers, Williams Director, University of Pennsylvania Museum of Archaeology and Anthropology, 3260 South Street, Philadelphia, PA 19104, telephone (215) 898-4050.

SUPPLEMENTARY INFORMATION: Notice is here given in accordance with the Native American Graves Protection and Repatriation Act (NAGPRA), 25 U.S.C. 3003, of the completion of an inventory of human remains and associated funerary objects under the control of the University of Pennsylvania Museum of Archaeology and Anthropology, Philadelphia, PA. The human remains and associated funerary objects were removed from Baranoff Island, AK.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the University of Pennsylvania Museum of Archaeology and Anthropology professional staff in consultation with representatives of the Central Council of the Tlingit & Haida Indian Tribes; Chilkat Indian Village (Klukwan); Chilkoot Indian Association (Haines); Hoonah Indian Association; Sitka Tribe of Alaska; Yakutat Tlingit Tribe; and Sealaska Corporation, a non-federally recognized entity.

History and Description of the Remains

In December 1931, human remains representing, at minimum, one individual were removed from a cave, in an unknown location, on the shoreline of Baranof Island in the Peril Strait in Alaska by Louis Shotridge. The human remains (UPM no. 31-29-17) represent the intact, fully clothed body of a single individual, male, 45-50 years old. The human remains are naturally mummified from the waist to the head. The pelvis and lower limbs are fully skeletonized. The human remains are believed to be those of Kagank, a Tlingit Kaagwaantaan Shaman. The 12 associated funerary objects include one exterior woven mat, one hide wrapping, one wool blanket, one wooden frame structure over the face, one nose pin, one pair of hide gloves, one hide shirt with quill decoration, one fine woven cloth, one pair of hide boots, one bird wing, one ornament of braided hair, and one twined basket.

The positioning and ornamentation of the human remains and associated funerary objects was reviewed by the Museum staff and several Tlingit consultants. The evidence strongly suggests that this individual is from the Northwest Coast region. Louis Shotridge collected the human remains directly from their original cave setting on the shoreline of Baronoff Island in the Peril Strait and shipped them to the University of Pennsylvania Museum in early 1932. According to collector information, consultation, and ethnographic and anthropological literature, the cave is located within traditional Tlingit Sitka Territory. Collector documents and consultation information identify this individual as Kagank, a Tlingit shaman from the Kaagwaantaan clan. According to Shotridge's ethnographic field notes, the name Kagank originates with the Kagwaantaan clan at Chilkat during the early period of their occupation of the area. According to consultation information provided in 2013, the name Kagank is also attributed to a 19th century Tlingit Kaagwaantaan shaman who died en route to a Deisheetan Clan potlatch. Members of the Kaagwaantaan Clan are represented today by the Central Council of Tlingit & Haida Indian Tribes; Chilkat Indian Village (Klukwan); Chilkoot Indian Association (Haines); Hoonah Indian Association; Sitka Tribe of Alaska; and Yakutat Tlingit Tribe. During consultation in 2005, representatives of the Hoonah Indian Association indicated that these human remains were not affiliated with the village of Hoonah.

Determinations Made by the University of Pennsylvania Museum of Archaeology and Anthropology

Officials of the University of Pennsylvania Museum of Archaeology and Anthropology have determined that:

• Pursuant to 25 U.S.C. 3001(9), the human remains described in this notice represent the physical remains of one individual of Native American ancestry.

• Pursuant to 25 U.S.C. 3001(3)(A), the 12 objects described in this notice are reasonably believed to have been placed with or near individual human remains at the time of death or later as part of the death rite or ceremony.

• Pursuant to 25 U.S.C. 3001(2), there is a relationship of shared group identity that can be reasonably traced between the Native American human remains and associated funerary objects and the Central Council of the Tlingit & Haida Indian Tribes; Chilkat Indian Village (Klukwan); Chilkoot Indian Association (Haines); Sitka Tribe of Alaska; and Yakutat Tlingit Tribe.

Additional Requestors and Disposition

Lineal descendants or representatives of any Indian tribe or Native Hawaiian organization not identified in this notice that wish to request transfer of control of these human remains and associated funerary objects should submit a written request with information in support of the request to Julian Siggers, Director, University of Pennsylvania Museum of Archaeology and Anthropology, 3260 South Street, Philadelphia, PA 19104, telephone (215) 898-4050, by June 2, 2017. After that date, if no additional requestors have come forward, transfer of control of the human remains and associated funerary objects to the Central Council of the Tlingit & Haida Indian Tribes; Chilkat Indian Village (Klukwan); Chilkoot Indian Association (Haines); Sitka Tribe of Alaska; and Yakutat Tlingit Tribe may proceed.

The University of Pennsylvania Museum of Archaeology and Anthropology is responsible for notifying the Central Council of the Tlingit & Haida Indian Tribes; Chilkat Indian Village (Klukwan); Chilkoot Indian Association (Haines); Hoonah Indian Association; Sitka Tribe of Alaska; Yakutat Tlingit Tribe; and Sealaska Corporation, a non-federally recognized entity, that this notice has been published.

Dated: March 28, 2017.
Melanie O'Brien,
Manager, National NAGPRA Program.

[FR Doc. 2017-08864 Filed 5-2-17; 8:45 am]

BILLING CODE 4312-72-P